DEPARTMENT OF HEALTH AND HUMAN SERVICES

Office of Inspector General

Program Exclusions: January 2005

AGENCY: Office of Inspector General, HHS.

ACTION: Notice of program exclusions.

During the month of January 2005, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject name | Address | Effective date
PROGRAM-RELATED CONVICTIONS
ABENDROTH, MICHAEL | FLORENCE, CO | 2/20/2005
AKHIGBE, SAMUEL | JONESVILLE, VA | 2/20/2005
ALLCUTT, JOSEPH | ALEXANDRIA, LA | 2/20/2005
ALVARINO, MAGDA | MIAMI, FL | 2/20/2005
ARMSTRONG, JONI | FORT SMITH, AR | 2/20/2005
BALL, DARCY | AUBURN, WA | 2/20/2005
BAQUERIZO, MARIA | MIAMI, FL | 2/20/2005
BROOKS, GLORIA | RENTON, WA | 2/20/2005
BROWN, HEATHER | OKLAHOMA CITY, OK | 2/20/2005
CHAMBERS, DEANA | DAVISON, MI | 2/20/2005
DADYAN, GEGAM | LONG BEACH, CA | 2/20/2005
DE LA VEGA, HAYDEE | MIAMI, FL | 2/20/2005
DENNIE, TONY | MCDONOUGH, GA | 2/20/2005
DUNN, FREDERIC | GULFPORT, MS | 2/20/2005
ETHERTON, JERAMEY | LEXINGTON, KY | 2/20/2005
FALCON, CORINA | DOWNEY, CA | 2/20/2005
FIELDS, JEFFREY | SAN ANTONIO, TX | 2/20/2005
FLORES, JUAN | LOS ANGELES, CA | 2/20/2005
GOODMAN, GARY | SHERIDAN, OR | 2/20/2005
HARRIS, LINDA | ATLANTA, GA | 2/20/2005
HICKS, CAROLYN | BENTONIA, MS | 2/20/2005
JAMES, ALMA | VALRICO, FL | 2/20/2005
JIMENEZ, ANAY | HIALEAH, FL | 2/20/2005
JOHNSON, ROSEMARY | FRESNO, CA | 2/20/2005
LEAHEY, ROBERT | BEAVER, WV | 2/20/2005
LITTLETON, DARLENE | CHAMPAIGN, IL | 2/20/2005
LOPEZ, LIZZETTE | MIAMI, FL | 2/20/2005
MCKINNEY, MICHELLE | FAIRFIELD, OH | 2/20/2005
MURPHY, MONICA | BAKERSFIELD, CA | 2/20/2005
PARRISH, VIVIAN | PORT ORANGE, FL | 2/20/2005
PEKERMAN, KONSTANTYN | FORT DIX, NJ | 2/20/2005
PENA, OVIDA | MIAMI, FL | 2/20/2005
PORBEN, MIRIAM | HIALEAH, FL | 2/20/2005
PRIME CARE SERVICES, INC | BRADFORD, PA | 2/20/2005
QUEVEDO, IDANYS | HIALEAH, FL | 2/20/2005
RODRIGUEZ, ALEXIS | MIAMI, FL | 2/20/2005
RODRIGUEZ, ALFONSO | MIAMI, FL | 2/20/2005
SARMIENTO, DAISY | MIAMI, FL | 2/20/2005
SCHMITT, DERIL | LONG BEACH, CA | 2/20/2005
ST JOHN, SAMUEL | PHENIX, VA | 2/20/2005
TEJEDA, MARIA | MIAMI, FL | 2/20/2005
TYLER, JOLIE | LORIS, SC | 2/20/2005
VELAZCO, REBECA | MIAMI, FL | 2/20/2005
VIDA, ALAIN | 1410 WATERLOO, BELGIUM, | 2/20/2005
VILLAR, SILVIA | MIAMI, FL | 2/20/2005
YANES, REGLA | MIAMI, FL | 2/20/2005
FELONY CONVICTION FOR HEALTH CARE FRAUD
BLEGGI, NICOLA | LIVONIA, MI | 2/20/2005
CARDENAS, KIMBERLY | LA PORTE, TX | 2/20/2005
COTA, PETER | MADISON, OH | 2/20/2005
DIAMOND-RILEY, ANGELA | CHICAGO, IL | 2/20/2005
ENGLER, KIMBERLY | ROBERTSVILLE, MO | 2/20/2005
FERNANDEZ, JOSE | OAKLAND PARK, FL | 2/20/2005
HOPKINS, WYCONDA | FRESNO, CA | 2/20/2005
KLEIN, REBECCA | PERRYSBURG, OH | 2/20/2005
LADD, ELLA | OVERLAND PARK, KS | 2/20/2005
MANZE, PATRICK | CHATHAM, NJ | 2/20/2005
MARTIN-FREDERICK, CHARMAINE | PALMDALE, CA | 2/20/2005
MILLER, TONI | ST JOSEPH, MO | 2/20/2005
OBEROI, TEJBIR | WHITEDEER, PA | 2/20/2005
OYSTER, CHERYL | KIRTLAND, OH | 2/20/2005
SMITH, LISA | WESTMINSTER, SC | 2/20/2005
WINER, CLARENCE | KANSAS CITY, MO | 2/20/2005
FELONY CONTROL SUBSTANCE CONVICTION
BAKER, MICHAEL | OCALA, FL | 2/20/2005
BERTUCCI, PAMELA | METAIRIE, LA | 2/20/2005
CARROLL, BRIDGET | CHESTERFIELD, MO | 2/20/2005
HOPWOOD, BECKY | DAYTON, WA | 2/20/2005
JACKSON, TERI | AVINGER, TX | 2/20/2005
JACOBS, TAMIE | WEST PALM BEACH, FL | 2/20/2005
MODI, KAILAS | OAKWOOD, VA | 2/20/2005
PEPPER, CHRISTI | CADIZ, KY | 2/20/2005
PORTALATIN, MICHELE | FLORISSANT, MO | 2/20/2005
PATIENT ABUSE/NEGLECT CONVICTIONS
BALL, SANDRA | BROOKHAVEN, MS | 2/20/2005
BELLANTON, JUDITH | WOODSTOCK, GA | 2/20/2005
BYNEM, SHAKESHA | GILBERT, SC | 2/20/2005
CRAWFORD, PHILIP | VILLAGE OF PALMETTO BAY, FL | 2/20/2005
EVANS, BRIAN | FONTANA, CA | 2/20/2005
EVANS, THOMAS | RIENZI, MS | 2/20/2005
GONZALEZ, ERNESTO | TORRINGTON, WY | 2/20/2005
GREENE, MARY | SACRAMENTO, CA | 2/20/2005
HUNTER, FRANK | BRIDGETON, NJ | 2/20/2005
MANDOLESI, MICHAEL | LONDON, OH | 2/20/2005
MCCRAY, RHONDA | SHREVEPORT, LA | 2/20/2005
NEACE, DARLENE | CYNTHIANA, KY | 2/20/2005
OWENS, BUDDY | SOMERSET, KY | 2/20/2005
PADGETT, TAMEKIA | BATESBURG, SC | 2/20/2005
PAVIA, DAILLYN | GRANITE CITY, IL | 2/20/2005
SANDIFER, TERESA | GREENWOOD, MS | 2/20/2005
SLAVNEY, KENNETH | FRESNO, CA | 2/20/2005
THOMAS, TAMIKA | EAST CLEVELAND, OH | 2/20/2005
WATTS, WARDELL | CINCINNATI, OH | 2/20/2005
LICENSE REVOCATION/SUSPENSION/SURRENDERED
ADAMS, JO | VIRGIE, KY | 2/20/2005
ALBRITTON, CYNTHIA | BOYNTON BEACH, FL | 2/20/2005
AMES, DIANNE | BRYAN, TX | 2/20/2005
ARNOLD, LISA | WEST PALM BEACH, FL | 2/20/2005
ATENCIO, SALLY | HENDERSON, NV | 2/20/2005
ATWOOD-ALDEN, DONNA | NEWBURYPORT, MA | 2/20/2005
AUTHELET, JERILYN | WARREN, RI | 2/20/2005
BAILEY, CHERYL | SPARKS, NV | 2/20/2005
BAUKNIGHT, POLLA | BELLEVUE, WA | 2/20/2005
BINGHAM, NATHANIEL | CHICAGO, IL | 2/20/2005
BLANTON, EBONY | PALMDALE, CA | 2/20/2005
BOUTROS, SAMIR | BRIARWOOD, NY | 2/20/2005
BOWLING, SARAH | JACKSON, KY | 2/20/2005
CALLERAME, WILLIAM | LARGO, FL | 2/20/2005
CAMPBELL, CHRISTINE | EVERETT, WA | 2/20/2005
CHANEY, CINDY | HAMILTON, OH | 2/20/2005
CHEATHAM, DOUGLAS | PHOENIX, AZ | 2/20/2005
COMBS, JOYCE | HAZARD, KY | 2/20/2005
CORDELL, KIMBERLY | ARITON, AL | 2/20/2005
COX, CASEY | BARDSTOWN, KY | 2/20/2005
COX, HILDA | DORA, AL | 2/20/2005
CRIST-LEGG, BARBARA | WESTERVILLE, OH | 2/20/2005
CRUZ, VANIDY | NEW BEDFORD, MA | 2/20/2005
DELACRUZ BROWN, JENNIFER | CENTRAL FALLS, RI | 2/20/2005
DIAZ, MAGDALENA | HOUSTON, TX | 2/20/2005
DORAN, MICHAEL | MOUNT VERNON, WA | 2/20/2005
EDDINGS, JOLENE | SILVER SPRINGS, NV | 2/20/2005
FERNANDES, SHARON | ARCADIA, FL | 2/20/2005
FLANDERS, CHERYL | WILLOUGHBY HILLS, OH | 2/20/2005
FORD, KAYLA | KILLEN, AL | 2/20/2005
FREE, MICHAEL | LANSING, IL | 2/20/2005
FULLMAN, LINDA | MIDFIELD, AL | 2/20/2005
FUQUA, LYNN | TONEY, AL | 2/20/2005
GABALDON, JENNIFER | FLAGSTAFF, AZ | 2/20/2005
GALINDO, VIOLET | PEORIA, AZ | 2/20/2005
GILLEY, VICKIE | VERBENA, AL | 2/20/2005
GINN, DAVID | COCKEYSVILLE, MD | 2/20/2005
GLOYD, JASON | HEBRON, OH | 2/20/2005
GLUSCHKE, REGINA | POMPANO BEACH, FL | 2/20/2005
GOMEZ, ALVERA | LAKE HAVASU, AZ | 2/20/2005
GREEN, KARMEN | HOLYOKE, MA | 2/20/2005
GREEN, PRISCILLA | QUINCY, FL | 2/20/2005
GREER, KAREN | GREENEVILLE, TN | 2/20/2005
GUARA, ANTHONY | DENVER, CO | 2/20/2005
HARDIN, SUSAN | LAWRENCEBURG, KY | 2/20/2005
HARDY, JERI | PORTER, TX | 2/20/2005
HARRIS, LINC | BASTROP, TX | 2/20/2005
HAYES, WILEY | LOCKPORT, IL | 2/20/2005
HEATH, RICHARD | ALAMEDA, CA | 2/20/2005
HERNANDEZ, REBECCA | CRESTWOOD, KY | 2/20/2005
HIGHTOWER, ANNIE | TUSKEGEE, AL | 2/20/2005
HINDS, WILLIAM | SODDY DAISY, TN | 2/20/2005
HINOJOSA, MARIA | TEMECULA, CA | 2/20/2005
HOWARD, ANNA | PORT ARTHUR, TX | 2/20/2005
JENRETTE, VICKY | SUMMERVILLE, SC | 2/20/2005
JENSEN, TAMMER | RIVERSIDE, CA | 2/20/2005
JONES, KRISTINE | HUNTSVILLE, AL | 2/20/2005
KANATZAR, MONTI | NICHOLASVILLE, KY | 2/20/2005
KERR, SHEILA | OLIVE BRANCH, MS | 2/20/2005
KLEIN, GALE | OLALLA, WA | 2/20/2005
KLIMAS, RICHARD | HUNTSVILLE, AL | 2/20/2005
LANE, GREGORY | BAKERSFIELD, CA | 2/20/2005
LAZARRE, SANDRA | FT LAUDERDALE, FL | 2/20/2005
LEONARD, JUDITH | LONG BRANCH, NJ | 2/20/2005
LIPSCHUTZ, HOWARD | WYNNEWOOD, PA | 2/20/2005
LOMAX, AVERY | ONTARIO, CA | 2/20/2005
LUCIANO, CHERYLANNE | ATLANTIC BEACH, FL | 2/20/2005
LUNA, TRACY | SPOKANE, WA | 2/20/2005
MCCORMICK, NATALIE | INDIANAPOLIS, IN | 2/20/2005
MEYER, JAMES | LITTLE ROCK, AR | 2/20/2005
MOLINAR, ARTHUR | GLENDALE, AZ | 2/20/2005
MONTECINO, DOUGLAS | MARRERO, LA | 2/20/2005
MOORE, JANICE | JACKSONVILLE, FL | 2/20/2005
NAVARRETTE, MARY | EL PASO, TX | 2/20/2005
NICOSIA, PATRICIA | BERWYN, IL | 2/20/2005
PALMER, LATRICIA | SPRING CITY, TN | 2/20/2005
PATZ, ERIC | ORLANDO, FL | 2/20/2005
PERRI, JODIE | BENSALEM, PA | 2/20/2005
PITTS, ROCHELLE | PENSACOLA, FL | 2/20/2005
POMONIS, LILLIAN | MESA, AZ | 2/20/2005
POTTER, NICOLE | W WARWICK, RI | 2/20/2005
PRESTON, ROBERT | YOUNGTOWN, AZ | 2/20/2005
PRINTZ, BRUCE | WESTFIELD, NJ | 2/20/2005
RICE, TONI | CRESTVIEW, FL | 2/20/2005
RILES, RACHEL | MOCKSVILLE, NC | 2/20/2005
ROAN, RHONDA | MONROE, LA | 2/20/2005
ROEDERSHEIMER, MARCY | ROCKPORT, TX | 2/20/2005
RUIZ, MIREYA | TUCSON, AZ | 2/20/2005
RYAN, MICHAEL | EL MIRAGE, AZ | 2/20/2005
SAUCEDA, MICHELLE | ARLINGTON, TX | 2/20/2005
SCOTT, JIMMY | CUMBERLAND, KY | 2/20/2005
SEDGWICK, DONNA | SPOKANE, WA | 2/20/2005
SHEPHERD, LORETTA | ABERDEEN, OH | 2/20/2005
SMITH, ANGELINE | ORLANDO, FL | 2/20/2005
SMITH, JANET | POLO, IL | 2/20/2005
SMITH, LETICIA | SURPRISE, AZ | 2/20/2005
SMITH, MEON | LANCASTER, CA | 2/20/2005
SMOOT, MARY | PHILADELPHIA, PA | 2/20/2005
STUBBLEFIELD, MARQUETTA | NICHOLASVILLE, KY | 2/20/2005
SWARTZ, PAUL | LAFAYETTE, IN | 2/20/2005
TANNER, PATTI | BARLOW, KY | 2/20/2005
TREADWELL, DIANE | WARE, MA | 2/20/2005
TRUJILLO, RAFAEL | SUNLAND, CA | 2/20/2005
VELEZ, LABONNIA | CLOVIS, CA | 2/20/2005
VERA, MIRIAM | PORT ST LUCIE, FL | 2/20/2005
WALSH, PATRICIA | WALTHAM, MA | 2/20/2005
WALTERS, PATRICIA | SUWANEE, GA | 2/20/2005
WATSON, MARTHA | MAYSLICK, KY | 2/20/2005
WEISSMAN, ARTHUR | BUFFALO, NY | 2/20/2005
WELBORN, VELVET | FULTON, MS | 2/20/2005
WETTEROW, MELANIE | PHOENIX, AZ | 2/20/2005
WHITE, SEAN | GLENDALE, AZ | 2/20/2005
WHITTENTON, ANGELA | COATS, NC | 2/20/2005
WILD, LISA | COLUMBIA, CT | 2/20/2005
WILLIAMS, PATRICIA | ANNANDALE, VA | 2/20/2005
WILLIAMS, WARREN | OAKLAND, CA | 2/20/2005
WOOLLEY, TODD | OLYMPIA, WA | 2/20/2005
ZIBA, GRACE | LOMA LINDA, CA | 2/20/2005
FRAUD/KICKBACKS/PROHIBITED ACTS/SETTLEMENT AGREEMENTS
GLANZER, ELROY | IDAHO FALLS, ID | 2/18/2004
OWNED/CONTROLLED BY CONVICTED ENTITIES
MONTECINO'S DRUGS, INC | MARRERO, LA | 2/20/2005
VALLEY COUNTRY CARE | EDEN VALLEY, MN | 2/20/2005
DEFAULT ON HEAL LOAN
BUKOWSKI, TODD | WASHINGTON, DC | 11/19/2004
MANRIQUEZ, ANTONIO | COACHELLA, CA | 2/20/2005
RICHARDS, JOHN | WASHINGTON, DC | 2/20/2005

Dated: February 1, 2005.
Katherine B. Petrowski,
Director, Exclusions Staff, Office of Inspector General.

[FR Doc. 05-2369 Filed 2-7-05; 8:45 am]

BILLING CODE 4150-04-P